ENVIRONMENTAL PROTECTION AGENCY

40 CFR Parts 118 and 300

[EPA-HQ-OLEM-2021-0585; FRL-7881-03-OLEM]

RIN 2050-AH17

Clean Water Act Hazardous Substance Worst Case Discharge Planning Regulations; Extension of Comment Period

AGENCY: Environmental Protection Agency (EPA).

ACTION: Extension of comment period.

SUMMARY: The Environmental Protection Agency (EPA or the Agency) is announcing an extension to the comment period for the proposed rule requiring an owner or operator of a facility to prepare and submit a plan for responding, to the maximum extent practicable, to a worst case discharge, and to a substantial threat of such a discharge, of a hazardous substance published in the Federal Register on March 28, 2022. EPA is proposing to require planning for worst case discharges of Clean Water Act (CWA) hazardous substances for onshore non-transportation-related facilities that could reasonably be expected to cause substantial harm to the environment by discharging CWA hazardous substances into or on the navigable waters, adjoining shorelines, or exclusive economic zone. The comment period is being extended to July 26, 2022.

DATES: Comments must be received on or before July 26, 2022.

ADDRESSES: You may send comments, identified by Docket ID No. EPA-HQ-OLEM-2021-0585, by any of the following methods:

—Federal eRulemaking Portal: https://www.regulations.gov/ (our preferred method). Follow the online instructions for submitting comments.

—Mail: U.S. Environmental Protection Agency, EPA Docket Center, EPA-HQ-OLEM-2021-0585 Docket, Mail Code 28221T, 1200 Pennsylvania Avenue NW, Washington, DC 20460.

—Hand delivery or courier (by scheduled appointment only): EPA Docket Center, WJC West Building, Room 3334, 1301 Constitution Avenue NW, Washington, DC 20004. The Docket Center's hours of operations are 8:30 a.m. to 4:30 p.m., Monday through Friday (except Federal holidays).

Instructions: All submissions received must include the Docket ID No. for this rulemaking. Comments received may be posted without change to https://www.regulations.gov/, including any personal information provided. Out of an abundance of caution for members of the public and our staff, the EPA Docket Center and Reading Room are open to the public by appointment only to reduce the risk of transmitting COVID-19. Our Docket Center staff also continues to provide remote customer service via email, phone, and webform. Hand deliveries and couriers may be received by scheduled appointment only. For further information on EPA Docket Center services and the current status, please visit us online at https://www.epa.gov/dockets.

FOR FURTHER INFORMATION CONTACT: Rebecca Broussard, Office of Emergency Management, Mail Code 5104A, Environmental Protection Agency, 1200 Pennsylvania Avenue NW, Washington, DC 20460; telephone number: 202-564-6706; email: broussard.rebecca@epa.gov.

SUPPLEMENTARY INFORMATION: This document extends the public comment period established in the Federal Register for 60 days (87 FR 17890). In that Federal Register notice, EPA proposed a rule requiring an owner or operator of a facility to prepare and submit a plan for responding, to the maximum extent practicable, to a worst case discharge, and to a substantial threat of such a discharge, of a hazardous substance published in the Federal Register on March 28, 2022. EPA is proposing to require planning for worst case discharges of CWA hazardous substances for onshore non-transportation-related facilities that could reasonably be expected to cause substantial harm to the environment by discharging CWA hazardous substances into or on the navigable waters, adjoining shorelines, or exclusive economic zone. EPA received requests from potential commenters to extend the comment period to allow greater time to comment. EPA is hereby extending the comment period, which was set to end on May 27, 2022, to July 26, 2022. Please note that late comments on this rule making may not be considered.

To submit comments or access the docket, please follow the detailed instructions as provided under ADDRESSES. If you have questions, consult the individuals listed under FOR FURTHER INFORMATION CONTACT.

Dated: May 9, 2022.
Donna K. Salyer,
Director, Office of Emergency Management.

[FR Doc. 2022-10426 Filed 5-13-22; 8:45 am]

BILLING CODE 6560-50-P